DEPARTMENT OF DEFENSE

Department of the Army, Corps of Engineers

[COE-2021-0007]

Notice of Availability of the Draft National Levee Safety Guidelines

AGENCY: U.S. Army Corps of Engineers, DoD.

ACTION: Notice.

SUMMARY: The U.S. Army Corps of Engineers (USACE) and the Federal Emergency Management Agency (FEMA) have made available for public review and comment the draft National Levee Safety Guidelines (Guidelines). The draft Guidelines are intended to serve as a national resource of best practices to help achieve nationwide consistency in improving the reliability of levees and resilience of communities behind levees throughout the United States. The draft Guidelines have been developed with stakeholder input as part of the National Levee Safety Program.

DATES: Comments related to the draft National Levee Safety Guidelines must be submitted on or before August 31, 2024.

ADDRESSES: You may submit comments identified by docket number COE-2021-0007 by any of the following methods:

Federal eRulemaking Portal: Visit www.regulations.gov and follow the instructions for submitting comments.

Email: Send an email to hq-leveesafety@usace.army.mil and include the docket number, COE-2021-0007, in the subject line of the message.

Mail: U.S. Army Corps of Engineers Vicksburg District, ATTN: Levee Safety Center—RM 221, 4155 East Clay Street, Vicksburg, MS 39183.

Hand Delivery/Courier: Due to security requirements, we cannot receive comments by hand delivery or courier.

Instructions: If submitting comments through the Federal eRulemaking Portal, direct your comments to docket number COE-2021-0007. All comments received will be included in the public docket without change and may be made available on-line at www.regulations.gov, including any personal information provided, unless the commenter indicates that the comment includes information claimed to be Confidential Business Information (CBI) or other information whose disclosure is restricted by statute. Do not submit information that you consider to be CBI, or otherwise protected, through regulations.gov or email. The regulations.gov website is an anonymous access system, which means we will not know your identity or contact information unless you provide it in the body of your comment. If you send an email directly to USACE without going through regulations.gov, your email address will be automatically captured and included as part of the comment that is placed in the public docket and made available on the internet. If you submit an electronic comment, we recommend that you include your name and other contact information in the body of your comment and with any compact disk you submit. If we cannot read your comment because of technical difficulties and cannot contact you for clarification, we may not be able to consider your comment. Electronic comments should avoid the use of any special characters, any form of encryption, and be free of any defects or viruses.

Docket: For access to the docket to read background documents or comments received, go to www.regulations.gov. All documents in the docket are listed. Although listed in the index, some information is not publicly available, such as CBI or other information whose disclosure is restricted by statute. Certain other material, such as copyrighted material, is not placed on the internet and will be publicly available only in hard copy form.

FOR FURTHER INFORMATION CONTACT: Ms. Tammy Conforti at 202-365-6586, email hq-leveesafety@usace.army.mil or visit www.leveesafety.org.

SUPPLEMENTARY INFORMATION: Congress enacted Title IX, entitled the National Levee Safety Program, of the Water Resources Development Act (WRDA) of 2007, as amended, authorizing various activities led by USACE and FEMA. The purpose of the National Levee Safety Program is to improve the way levees are managed throughout the United States and its territories in order to reduce the impacts of flooding and improve the resilience of communities behind levees. The National Levee Safety Program has four major components which include: National Levee Safety Guidelines; Integrated Levee Management; National Levee Database; and Implementation Support. These four components are intended to work together to accomplish the goals of the program. There are fact sheets and additional information related to each of these components at www.leveesafety.org.

As part of the development of the National Levee Safety Program, USACE and FEMA developed a three-phased stakeholder engagement plan to continue their commitment to seek feedback from stakeholders at various phases of the program's development. Phase 1, which took place between December 2021 and March 2022, was focused on gathering initial input on the purpose and scope of the program. Phase 2, which took place between March and June 2023, included activities focused on soliciting feedback on options for draft products, including the National Levee Safety Guidelines and supplemental resources. For this notice, which is associated with Phase 3, comments are being sought on the full draft of the Guidelines.

The draft Guidelines contain voluntary best practices that are intended to be scalable and adaptable to local conditions. Topics in the draft Guidelines range from basic concepts and terminology to consistent approaches for levee-related activities throughout the life of a levee. In addition, strategies to reduce flooding impacts to people, property, and the environment are also covered. Finally, the value of addressing how climate change impacts levees, how natural and nature-based features can be integrated into levees, and understanding the needs of underserved and overburdened communities is also emphasized throughout the publication. The complete publication can be found at www.leveesafety.org/pages/nlsg or on www.regulations.gov under docket number COE-2021-0007. It is available by individual chapters or as one complete document. In preparation for release of the draft first edition of the National Levee Safety Guidelines, USACE hosted two webinars to provide an overview of the draft Guidelines and the comment process. The webinars were recorded and can be found at www.leveesafety.org/pages/nlsg.

Questions to Assist in Providing Feedback: Commentors are encouraged to consider the following questions to guide their feedback on the draft National Levee Safety Guidelines:

1. Did you find the document to be beneficial for you or your organization? Please explain your response.

2. Is there sufficient detail on the principles and practices described in the draft Guidelines? If not, what additional detail should be included?

3. Is there an activity that is missing? What should be explained more?

4. What other suggestions do you have for improving the draft National Levee Safety Guidelines?

Topic-Specific Webinars: To help with this effort, USACE has conducted a series of topic-specific webinars that provide background information on development of the draft National Levee Safety Guidelines, more detail on related content from applicable chapters, examples from various chapters that support the topic of the webinar, and information on how to submit feedback. Each webinar was recorded and posted on www.leveesafety.org/pages/nlsg.

The topic-specific webinars include:

• Levee Operations and Maintenance

• Emergency Planning, Response, and Recovery Related to Levees

• Living with Levees: Building Resilient Communities

• Assessing, Designing, and Constructing Levees

• Environmental Considerations in Flood Risk Management

Michael L. Connor,
Assistant Secretary of the Army (Civil Works).

[FR Doc. 2024-15814 Filed 7-17-24; 8:45 am]

BILLING CODE 3720-58-P